NATIONAL ARCHIVES AND RECORDS ADMINISTRATION

Information Security Oversight Office

State, Local, Tribal, and Private Sector Policy Advisory Committee (SLTPS-PAC)

AGENCY: National Archives and Records Administration.

ACTION: Notice of meeting.

SUMMARY: In accordance with the Federal Advisory Committee Act (5 U.S.C. app 2) and implementing regulation 41 CFR 101-6, announcement is made for the following committee meeting. The meeting will be held to discuss the matters relating to the Classified National Security Information Program for State, Local, Tribal, and Private Sector Entities.

DATES: The meeting will be held on July 27, 2011, from 10 a.m. to 12 noon.

ADDRESSES: National Archives and Records Administration, 700 Pennsylvania Avenue, NW., Jefferson Room, Washington, DC 20408.

FOR FURTHER INFORMATON CONTACT: Robert J. Skwirot, Senior Program Analyst, ISOO, National Archives Building, 700 Pennsylvania Avenue, NW., Washington, DC 20408, telephone number (202) 357-5398, or at robert.skwirot@nara.gov. Contact ISOO at ISOO@nara.gov.

SUPPLEMENTARY INFORMATION: This meeting will be open to the public. However, due to space limitations and access procedures, the name and telephone number of individuals planning to attend must be submitted to the Information Security Oversight Office (ISOO) no later than Friday, July 22, 2011. ISOO will provide additional instructions for gaining access to the location of the meeting.

Dated: July 12, 2011.
Mary Ann Hadyka,
Committee Management Officer.

[FR Doc. 2011-17912 Filed 7-14-11; 8:45 am]

BILLING CODE 7515-01-P